DEPARTMENT OF TRANSPORTATION

Surface Transportation Board

[STB Finance Docket No. 35077]

Stourbridge Railroad Company—Acquisition Exemption—Lackawaxen-Honesdale Shipper Association

Stourbridge Railroad Company (SRC), a Class III rail carrier, has filed a verified notice of exemption under 49 CFR 1150.41 to acquire approximately 24.74 miles of rail line from the Lackawaxen-Honesdale Shippers Association (LHSA), in Wayne and Pike Counties, PA. The line, known as the Honesdale Branch, extends between milepost 110.26, in Lackawaxen, PA, and milepost 135.00 in Honesdale, PA.¹

¹ LHSA obtained authority to acquire the Honesdale Branch in Lackawaxen-Honesdale Shippers Association, Inc.—Acquisition Exemption—Pennsylvania Department of Transportation, STB Finance Docket No. 34891 (STB served July 13, 2006).

SRC certifies that its projected annual revenues as a result of this transaction will not result in the creation of a Class II or Class I rail carrier.

The earliest this transaction may be consummated is October 12, 2007, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than October 5, 2007 (at least 7 days before the exemption becomes effective).

An original and 10 copies of all pleadings, referring to STB Finance Docket No. 35077, must be filed with the Surface Transportation Board, 395 E Street, SW., Washington, DC 20423-0001. In addition, one copy of each pleading must be served on Richard R. Wilson, Esq., 127 Lexington Avenue, Suite 100, Altoona, PA 16601.

Board decisions and notices are available on our Web site at http://www.stb.dot.gov.

Decided: September 24, 2007.
By the Board, David M. Konschnik, Director, Office of Proceedings.
Vernon A. Williams,
Secretary.

[FR Doc. E7-19184 Filed 9-27-07; 8:45 am]

BILLING CODE 4915-01-P